DEPARTMENT OF THE INTERIOR

National Park Service

[NPS-WASO-NAGPRA-NPS0036762; PPWOCRADN0-PCU00RP14.R50000]

Notice of Inventory Completion: California State University, Sacramento, Sacramento, CA

AGENCY: National Park Service, Interior.

ACTION: Notice.

SUMMARY: In accordance with the Native American Graves Protection and Repatriation Act (NAGPRA), California State University, Sacramento has completed an inventory of human remains and associated funerary objects and has determined that there is a cultural affiliation between the human remains and associated funerary objects and Indian Tribes or Native Hawaiian organizations in this notice. The human remains and associated funerary objects were removed from Placer County, CA.

DATES: Repatriation of the human remains and associated funerary objects in this notice may occur on or after November 22, 2023.

ADDRESSES: Dr. Dianne Hyson, Dean of the College of Social Sciences and Interdisciplinary Studies, California State University, Sacramento, 6000 J Street, Sacramento, CA 95819, telephone (916) 278-6504, email: dhyson@csus.edu.

SUPPLEMENTARY INFORMATION: This notice is published as part of the National Park Service's administrative responsibilities under NAGPRA. The determinations in this notice are the sole responsibility of California State University, Sacramento. The National Park Service is not responsible for the determinations in this notice. Additional information on the determinations in this notice, including the results of consultation, can be found in the inventory or related records held by California State University, Sacramento.

Description

In 1966, human remains representing, at minimum, one individual were removed from CA-PLA-14 in Placer County, CA, by a graduate student of California State University, Sacramento. Primary occupation of PLA-14 is estimated to occurred during the Late Horizon through Historic Periods (roughly A.D. 1100 to early 1800s). The 12 associated funerary objects are the following individual lots: baked clay objects; faunal remains; flaked stones; groundstones; modified stones; modified bones; modified shells; thermally-altered rocks; unmodified stones; floral remains; historic materials; and uncatalogued materials.

In the 1960s, human remains representing, at minimum, three individuals were removed from CA-PLA-41 in Placer County, CA, by a California State University, Sacramento field class. Occupation of PLA-41 is estimated to have occurred during the Middle to Late Horizons (roughly 550 BC through A.D. 1700s). The 15 associated funerary objects are the following individual lots: faunal remains; flaked stones; groundstones; modified stones; modified bones; modified shells; unmodified stones; thermally-altered rocks; baked clay objects; ash; floral remains; soil samples; historic materials; unidentified stones; and uncatalogued materials.

In 1963, human remains representing, at minimum, 10 individuals were removed from CA-PLA-68 in Placer County, CA, by American River Junior College. The collection was transferred to California State University, Sacramento at an unknown date. Occupation of the site is estimated to have occurred from A.D. 700-900 onward. The six associated funerary objects are the following individual lots: faunal remains; flaked stones; groundstones; modified shells; floral remains; and uncatalogued materials.

In the 1960s, human remains representing, at minimum, one individual were removed from CA-PLA-85 in Placer County, CA, during a survey by a California State University, Sacramento student. Occupation of PLA-85 is estimated to have occurred during the Late Horizon (roughly A.D. 1100-1700s), with other periods of occupation possible. The four associated funerary objects are the following individual lots: flaked stones; groundstones; faunal remains; and uncatalogued materials.

In the 1960s, human remains representing, at minimum, one individual were removed from CA-PLA-86 in Placer County, CA, during a survey by a California State University, Sacramento student. Occupation of PLA-86 is estimated to have occurred during the Late Horizon (roughly A.D. 1100-1700s), with other periods of occupation possible. The five associated funerary objects are the following individual lots: flaked stones; groundstones; faunal remains; unmodified stones; and uncatalogued materials.

In the 1960s, human remains representing, at minimum, one individual were removed from CA-PLA-87 in Placer County, CA, during a survey by a California State University, Sacramento student. The age of the site is not known. The five associated funerary objects are the following individual lots: flaked stones; groundstones; unmodified stones; faunal remains; and uncatalogued materials.

In the 1960s, human remains representing, at minimum, eight individuals were removed from CA-PLA-142 in Placer County, CA, during several different excavations. In 1962-1963, American River Junior College (ARJC) conducted excavations at the site. The collection was transferred to California State University, Sacramento at an unknown date. In 1963, California State University, Sacramento was contacted by local police to recover archeological materials discovered during waterline work. A collection made by a local citizen prior to the ARJC excavation was donated to Sacramento State in 2005. Occupation of PLA-142 is estimated to have occurred during the Late Horizon (roughly A.D. 1100-1700s), with possible use during the Historic Period. The 11 associated funerary objects are the following individual lots: flaked stones; groundstones; faunal remains; unmodified stones; thermally-altered rocks; modified stones; modified bones; modified shells; floral remains; historic materials; and uncatalogued materials.

In the 1960's, human remains representing, at minimum, one individual were removed from CA-PLA-194 in Placer County, CA, by American River Junior College (ARJC). The collection was transferred to California State University, Sacramento in 1977. Occupation of PLA-194 is estimated to have occurred during the Late Horizon (roughly A.D. 1100-1700s), with possible use during the Historic Period. The 12 associated funerary objects are the following individual lots: baked clay objects; flaked stones; groundstones; faunal remains; unmodified stones; thermally-altered rocks; modified stones; modified bones; modified shells; floral remains; historic materials; and uncatalogued materials.

At an unknown date, human remains representing, at minimum, one individual were removed from school property in Placer County, CA. There is little documentation for the collection. The associated funerary objects include one lot consisting of flaked stones.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, folkloric, geographical, historical, kinship, linguistic, oral traditional, and expert opinion.

Determinations

Pursuant to NAGPRA and its implementing regulations, and after consultation with the appropriate Indian Tribes and Native Hawaiian organizations, California State University, Sacramento has determined that:

• The human remains described in this notice represent the physical remains of 27 individuals of Native American ancestry.

• The 71 objects described in this notice are reasonably believed to have been placed with or near individual human remains at the time of death or later as part of the death rite or ceremony.

• There is a relationship of shared group identity that can be reasonably traced between the human remains and associated funerary objects described in this notice and the Ione Band of Miwok Indians of California; Shingle Springs Band of Miwok Indians, Shingle Springs Rancheria (Verona Tract), California; United Auburn Indian Community of the Auburn Rancheria of California; and the Wilton Rancheria, California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after November 22, 2023. If competing requests for repatriation are received, California State University, Sacramento must determine the most appropriate requestor prior to repatriation. Requests for joint repatriation of the human remains and associated funerary objects are considered a single request and not competing requests. California State University, Sacramento is responsible for sending a copy of this notice to the Indian Tribes identified in this notice.

Authority: Native American Graves Protection and Repatriation Act, 25 U.S.C. 3003, and the implementing regulations, 43 CFR 10.9, 10.10, and 10.14.

Dated: October 11, 2023.
Melanie O'Brien,
Manager, National NAGPRA Program.

[FR Doc. 2023-23284 Filed 10-20-23; 8:45 am]

BILLING CODE 4312-52-P